DEPARTMENT OF HOMELAND SECURITY

U.S. Immigration and Customs Enforcement

[Docket No. ICEB-2023-0004]

RIN 1653-ZA39

Employment Authorization for Sudanese F-1 Nonimmigrant Students Experiencing Severe Economic Hardship as a Direct Result of the Current Crisis in Sudan

AGENCY: U.S. Immigration and Customs Enforcement; Department of Homeland Security.

ACTION: Notice.

SUMMARY: This notice announces that the Secretary of Homeland Security (Secretary) is suspending certain regulatory requirements for F-1 nonimmigrant students whose country of citizenship is Sudan, regardless of country of birth (or individuals having no nationality who last habitually resided in Sudan), and who are experiencing severe economic hardship as a direct result of the current crisis in Sudan. The Secretary is taking action to provide relief to these Sudanese students who are in lawful F-1 nonimmigrant student status, so the students may request employment authorization, work an increased number of hours while school is in session, and reduce their course load while continuing to maintain their F-1 nonimmigrant student status. The U.S. Department of Homeland Security (DHS) will deem an F-1 nonimmigrant student granted employment authorization by means of this notice to be engaged in a “full course of study” for the duration of the employment authorization, if the nonimmigrant student satisfies the minimum course load requirement described in this notice.

DATES: This action is effective October 20, 2023, through April 19, 2025.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Sudan regardless of country of birth (or individuals having no nationality who last habitually resided in Sudan), who are present in the United States in lawful F-1 nonimmigrant student status on the date of publication of this notice, and who are experiencing severe economic hardship as a direct result of the current crisis in Sudan. The original notice, which suspended certain regulatory requirements for F-1 nonimmigrant students experiencing severe economic hardship as a direct result of the crisis at that time is effective from April 19, 2022, through October 19, 2023. See 87 FR 23195 (Apr. 19, 2022). Effective with this publication, suspension of the employment limitations is available through April 19, 2025, for those who are in lawful F-1 nonimmigrant status on the date of publication of this notice. DHS will deem an F-1 nonimmigrant student granted employment authorization through this notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of April 19, 2025, provided the student satisfies the minimum course load requirements in this notice.

Who is covered by this notice?

This notice applies exclusively to F-1 nonimmigrant students who meet all of the following conditions:

(1) Are a citizen of Sudan regardless of country of birth (or an individual having no nationality who last habitually resided in Sudan);

(2) Were lawfully present in the United States on the date of publication of this notice in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current crisis in Sudan.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Sudanese F-1 nonimmigrant students experiencing severe economic hardship due to the current crisis in Sudan. Based on its review of country conditions in Sudan and input received from the U.S. Department of State (DOS), DHS is taking action to allow eligible F-1 nonimmigrant students from Sudan to request employment authorization, work an increased number of hours while school is in session, and reduce their course load while continuing to maintain F-1 nonimmigrant student status.

In August 2019, a transitional government,² known as the Sovereign Council, comprised of military and civilian members, was established in Sudan.³ General Abdel Fatah al-Burhan, a top military figure in the Sudanese Armed Forces (SAF) led the council.⁴ General Mohammed Hamdan Dagalo, also known as Hemedti, head of the Rapid Support Forces (RSF),⁵ served as the deputy to General al-Burhan.⁶ On August 20, 2021, Dr. Abdalla Hamdok was sworn in as the prime minister of Sudan.⁷ However, on October 25, 2021, Sudan faced a military takeover of the transitional government led by General al-Burhan with the support of General Hemedti.⁸ Prime Minister Hamdok was removed from power and taken to an undisclosed location. In December 2021, General al-Burhan “issued an edict giving authorities sweeping powers to clamp down on dissent, including granting security officers immunity from prosecution in carrying out these orders.” ⁹ Prime Minister Hamdock was eventually freed and officially resigned as the Sudanese prime minister on January 2, 2022.¹⁰

² The Sovereign Council removed Sudan's former President Omar al-Bashir, after 30 years in power. After Bashir, A New Dawn in Sudan? U.S. Institute of Peace, April 17, 2019, available at https://www.usip.org/publications/2019/04/after-bashir-new-dawn-sudan-part-1 (last visited on Apr. 17, 2023).

³ 2020 Country Reports on Human Rights Practices: Sudan, DOS, March 30, 2020, available at https://www.state.gov/reports/2020-country-reports-on-human-rights-practices/sudan/ (last visited on Apr. 17, 2023).

⁴ Id.

⁵ Rapid Support Forces (RSF) is a paramilitary force established in 2013 by former President al-Bashir. It was “fashioned out of Janjaweed militias and was assembled in response to anti-government rebel movements in Darfur.” “It has also been accused of a myriad of human rights abuses in Darfur and elsewhere.” The Rapid Support Forces and the Escalation of Violence in Sudan, ACLED, July 2019, acleddata.com/2019/07/02/the-rapid-support-forces-and-the-escalation-of-violence-in-sudan/ (last visited May 10, 2023).

⁶ Sudan strongman is seen as an insider with powerful allies, AP News, October 27, 2021, available at https://apnews.com/article/sudan-who-is-abdel-fattah-burhan-3f2d4d660fabf1b526f09f04808af7c8 (last visited on Apr. 17, 2023).

⁷ 2019 Country Reports on Human Rights Practices: Sudan, U.S. Department of State, March 30, 2020, available at https://www.state.gov/reports/2019-country-reports-on-human-rights-practices/sudan/ (last visited Apr. 17, 2023).

⁸ Appetite for Destruction: The Military Counterrevolution in Sudan, ACLED, October 29, 2021, available at https://acleddata.com/2021/10/29/appetite-for-destruction-the-military-counter-revolution-in-sudan/ (last visited July 25, 2023).

⁹ Watch List 2022; Sudan: Toward a Reset for the Transition, International Crisis Group, Jan. 27, 2022, available at https://www.ecoi.net/en/document/2069005.html (last visited Mar. 29, 2023).

¹⁰ Sudan coup: Prime Minister Abdalla Hamdok resigns after mass protests, BBC News, 3 Jan. 2022, available at https://www.bbc.com/news/world-africa-59855246 (last visited May 10, 2022).

In February 2023, the United Nations (UN) Panel of Experts on Sudan reported that Sudan continued to face a political crisis at the national level, with regular demonstrations against the rule of the military.¹¹ It further reported that a path to a transition towards a fully civilian government remained unclear.¹² Moreover, the UN Security Council reported, in September 2022, that the lack of a political agreement and a fully functioning government contributed to insecurity in various parts of Sudan, as well as to the deterioration of the economic and humanitarian situation.¹³

¹¹ Letter dated 7 February 2023 from the Panel of Experts on the Sudan addressed to the President of the Security Council; Final report of the Panel of Experts on the Sudan, UN Security Council, February 7, 2023, available at https://www.ecoi.net/en/file/local/2087153/N2303752.pdf (last visited Mar. 29, 2023).

¹² Id.

¹³ Situation in Sudan and the activities of the UNITAMS, UN Security Council, September 2, 2022, available at https://www.ecoi.net/en/file/local/2078615/N2258000-1.pdf (last visited Mar. 29, 2023).

In April 2023, tensions between General Burhan and General Hemedti led to armed conflict between the Sudanese Armed Forces (SAF) and the RSF.¹⁴ The conflict was caused by a disagreement over how the RSF would be integrated into the SAF.¹⁵ On April 16, 2023, the UN Office for the Coordination of Humanitarian Affairs (UNOCHA) further reported on security conditions in the country stating that clashes between the SAF and the RSF erupted in Khartoum just before 9:00 a.m. on April 15, 2023. Additionally, heavy gunfire and explosions were heard from several locations in Khartoum. The RSF released a statement claiming to have taken control of Khartoum International Airport, the Presidential Palace, state television, and other key locations in the city. News of clashes at the military base in Merowe in Northern State and heavy exchanges of fire at the Soba military base in the south of Khartoum were also reported around the same time. Shortly after, heavy fighting was heard at the airport and the Sudanese Air Force attacked RSF positions from the air. Several civilian planes were reportedly damaged, and unconfirmed reports have indicated that the damaged aircraft includes the only UN Humanitarian Air Service (UNHAS) fixed-wing plane still in service following a recent funding shortage.¹⁶ The United States Agency for International Development (USAID) reports that at least 3,900 people have been killed since the conflict began, although the true toll is likely much higher.¹⁷

¹⁴ “In January 2015, the RSF, which had been operating under the command of the National Intelligence Security Services, became part of the regular government forces through a constitutional amendment. In April 2015, the RSF were placed under the command of the Presidency. In January 2017, the Parliament passed the Rapid Support Forces Act, integrating those forces into the Sudan Armed Forces.” Report of the Secretary-General on children and armed conflict in Sudan, UN Security Council, March 6, 2017, available at http://www.un.org/ga/search/view_doc.asp?symbol=S/2017/191&referer=/english/&Lang=E (last visited Apr. 17, 2023).

¹⁵ Dozens of civilians are dead as rival military factions batter for control of Sudan, National Public Radio, April 17, 2023, available at https://www.npr.org/2023/04/16/1170289462/sudans-army-and-rsf-are-doing-battle-leaving-56-civilians-dead (last visited Apr. 17, 2023).

¹⁶ Sudan Situation Report, UNOCHA, April 17, 2023, available at https://reliefweb.int/report/sudan/sudan-clashes-between-sudanese-armed-forces-and-rapid-support-forces-flash-update-16-april-2023-enar (last visited July 25, 2023).

¹⁷ Sudan—Complex Emergency Fact Sheet #15, Fiscal Year (FY) 2023, USAID, available at https://reliefweb.int/report/sudan/sudan-complex-emergency-fact-sheet-15-fiscal-year-fy-2023 (last visited August 4, 2023).

Economic Situation

Sudan's political stalemate has negatively impacted its economy.¹⁸ In 2022, Sudan's government devalued its currency, causing the inflation rate to surpass 300 percent.¹⁹ In 2022, Sudan's economy remained highly dependent on agriculture, which contributes to nearly a third of the country's gross domestic product (GDP), and provides livelihoods to approximately two-thirds of Sudan's population.²⁰ However, the rising prices of fuel, agricultural tools, and fertilizer has impeded local production costs further eroding the already limited purchasing power of the majority of the population.²¹

¹⁸ Sudan: Overview Complex Crisis, Assessments Capacities Project (ACAPS) April 13, 2022, available at https://www.acaps.org/country/sudan/crisis/violence-in-darfur-and-kordofan-regions (last visited Apr. 11, 2023).

¹⁹ Id.

²⁰ Humanitarian Needs Overview Sudan 2023, UNOCHA, November 2, 2022, available at file:///C:/Users/RMoehri/AppData/Local/Temp/1/MicrosoftEdgeDownloads/1437637c-ce66-4ebe-9716-e86db118cf30/SDN_2023-HNO.pdf (last visited July 26, 2023).

²¹ Id.

Moreover, continued insecurity, inter-communal violence and rising floods led to price hikes of basic services in Sudan.²² Continued increases in the prices of food and transportation, and the local food basket are expected to continue impacting the purchasing power of poor households and likely drive an increase in the inflation rate. The Food and Agriculture Organization (FAO) estimate that 5.6 million people are affected by the dry spells in addition to the 9.8 million people that are food insecure due to the current economic crisis, as well as fuel and price hikes.²³ In April 2023, the Famine Early Warning System Network, reported that “Sudan's economic conditions remain poor, as low foreign currency reserves and currency depreciation resulted in high inflation rates.” ²⁴

²² Sudan: Overview Complex Crisis, ACAPS April 13, 2022, available at https://www.acaps.org/fileadmin/Data_Product/Main_media/20220324_acaps_global_risk_report_march_2022.pdf (last visited July 25, 2023).

²³ Sudan: Situation Report, UNOCHA, available at file://one.dhs/wpaas-ice/ten3-homedir/RMOEHRI/Downloads/Situation%20Report%20-%20Sudan%20-%2027%20Mar%202022.pdf (last visited July 25, 2023).

²⁴ Sudan Key Message Update: Exceedingly high cost of living and conflict undermine benefits of harvest, March 2023, Famine Early Warning System Network, April 6, 2023, available at https://reliefweb.int/report/sudan/sudan-key-message-update-exceedingly-high-cost-living-and-conflict-undermine-benefits-harvest-march-2023 (last visited May 17, 2023).

Numbers at a Glance

• Number of People in Need: 24,700,000 (since December 14, 2022, as of May 17, 2023) ²⁵

²⁵ Sudan Key Figures, UNOCHA, available at https://m.reliefweb.int/country/220/sdn?figures-display=all (last visited Apr. 17, 2023).

• Children in Need: 8,500,000 (since December 14, 2021, as of December 5, 2022) ²⁶

²⁶ Id.

• People Internally Displaced: 2,613,036(since July 11, 2023, as of July 18, 2023) ²⁷

²⁷ Id.

• People Affected by Floods: 348,724 ²⁸

²⁸ Sudan: Floods: People & areas affected, UNOCHA, October 2, 2022, available at https://reliefweb.int/map/sudan/sudan-floods-people-areas-affected-02-october-2022 (last visited Apr. 17, 2023).

• People in Food Crisis/Emergency: 11,700,000 (since April 30, 2022, as of June 21, 2022) ²⁹

²⁹ Sudan Key Figures, UNOCHA, available at https://m.reliefweb.int/country/220/sdn?figures-display=all (last visited Apr. 17, 2023).

Displacement

As of March 2023, there were more than 3.8 million Internally Displaced Person(s) (IDPs) in Sudan, and this figure has increased since conflict began in April 2023.³⁰ In November 2022, UNOCHA reported that at least 2 million IDPs were under the age of 18 and had been displaced for most of their lives, and that 52 percent of IDPs were female.³¹

³⁰ International Organization for Migration (IOM), DTM Sudan—Situation Report (16), Aug 8, 2023, https://dtm.iom.int/reports/dtm-sudan-situation-report-16 (last visited Aug. 9, 2023)

³¹ Humanitarian Needs Overview Sudan 2023, UNOCHA, November 2, 2022, available to download at https://reliefweb.int/report/sudan/sudan-humanitarian-needs-overview-2023-november-2022?_gl=1*1a32v0y*_ga*MjA2NjI5MjkzOS4xNjkwMzcxNzYy*_ga_E60ZNX2F68*MTY5MDM3MTc2MS4xLjEuMTY5MDM3MTgwNS4xNi4wLjA. (last visited July 25, 2023).

Moreover, the living conditions for IDPs in Sudan remains dire, as many IDPs have been displaced multiple times and have been traumatized, physically abused, injured, or have lost family members, personal belongings, shelters, villages and access to land, water points and firewood collection.³² UNOCHA reported in November 2022 that the majority of IDPs continue to reside in temporary sites and are unable to return to their homes or previous displacement sites due to security concerns.³³

³² Id.

³³ Sudan Flash Update: Conflict in Blue Nile State, Flash Update No. 07 (3 November 2023), UNOCHA, available at https://reports.unocha.org/en/country/sudan/card/1LiGbNBeVA/ (last visited July 25, 2023).

Forced displacement due to conflict is concentrated in Darfur's states, which host 85 percent of Sudan's total IDP population.³⁴ In July 2022, rising inter-communal violence in the Blue Nile region resulted in the forced displacement of some additional 12,800 people.³⁵ The UN Integrated Transition Assistance Mission in Sudan (UNITAMS) further reported that, in March 2023, local violence in Darfur, Blue Nile, and South and West Kordofan that mainly concerned access to and control of resources contributed to the displacement of civilians. Over 16,000 people were displaced due to violence between December 2022 and February 2023.³⁶

³⁴ Clashes displace thousands in Darfur, UN News, available at https://news.un.org/en/story/2021/12/1107292 (last visited July 25, 2023).

³⁵ Sudan: Displacement due to conflict in Blue Nile state, UNOCHA, available at file:///C:/Users/RMoehri/AppData/Local/Temp/5/MicrosoftEdgeDownloads/6a6ada21-4fb3-4037-97c4-e30d13f460c6/20220728_acaps_briefing_note_sudan_displacement_in_blue_nile_state_0%20(1).pdf (last visited July 25, 2023).

³⁶ Id.

Food Security

The number of food insecure people in Sudan continued to increase in 2022.³⁷ In September 2022, the UN reported that almost one quarter of the population was estimated to be facing acute hunger.³⁸ In addition, according to ACAPS, in 2022 at least three million children under the age of five suffered from malnutrition.³⁹

³⁷ Humanitarian Needs Overview Sudan 2023, UNOCHA, November 2, 2022, available at https://reliefweb.int/report/sudan/sudan-humanitarian-needs-overview-2023-november-2022 (last visited Apr. 7, 2023).

³⁸ Situation in Sudan and the activities of the UNITAMS, UN Security Council, September 2, 2022, available at https://www.ecoi.net/en/file/local/2078615/N2258000-1.pdf (last visited Mar. 29, 2023).

³⁹ Sudan Overview, ACAPS, January 1, 2023, available at https://www.acaps.org/fileadmin/Data_Product/Main_media/20230419_acaps_briefing_note_sudan_conflict.pdf (last visited July 25, 2023).

Vulnerable Populations

Members of vulnerable groups, including women and children, continue to face a range of risks, including gender-based violence (GBV), as well as other human rights abuses.⁴⁰ In 2022, gender-based violence remained a grave concern across Sudan.⁴¹ In February 2023, UNITAMS reported that the UN Joint Human Rights Office continued to receive reports of sexual violence against women from camps for IDPs who engage in livelihood activities outside the camps.⁴² There have also been several reports of security forces engaging in sexual violence against women across the country, reportedly to discourage their participation in protests and demonstrations.⁴³

⁴⁰ Humanitarian Needs Overview Sudan 2023, UNOCHA, November 2, 2022, available at file:///C:/Users/RMoehri/AppData/Local/Temp/5/MicrosoftEdgeDownloads/d53a1d63-7c1f-4270-a55b-486349498546/SDN_2023-HNO.pdf (last visited July 25, 2023).

⁴¹ Id.

⁴² Sudan: Humanitarian Key Messages (February 2023), UNOCHA, February 26, 2023, https://reliefweb.int/report/sudan/sudan-humanitarian-key-messages-february-2023 (last visited on July 25, 2023).

⁴³ 2022 Country Reports on Human Rights Practices: Sudan, U.S. Department of State, March 23, 2023, available at https://www.state.gov/wp-content/uploads/2023/02/415610_SUDAN-2022-HUMAN-RIGHTS-REPORT.pdf (last visited Apr. 7, 2023).

As of August 8, 2023, approximately 351 F-1 nonimmigrant students from Sudan are enrolled at SEVP-certified academic institutions in the United States. Given the extent of the current crisis in Sudan, affected students whose primary means of financial support comes from Sudan may need to be exempt from the normal student employment requirements to continue their studies in the United States. The current crisis has made it unfeasible for many students to safely return to Sudan for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program. See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

May an eligible F-1 nonimmigrant student who already has on-campus or off-campus employment authorization benefit from the suspension of regulatory requirements under this notice?

Yes. An F-1 nonimmigrant student who is a Sudanese citizen, regardless of country of birth (or an individual having no nationality who last habitually resided in Sudan), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].⁴⁴

⁴⁴ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of April 19, 2025, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ⁴⁵ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

⁴⁵ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment under the F-2 nonimmigrant status, consistent with 8CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Sudan regardless of country of birth (or an individual having no nationality who last habitually resided in Sudan);

(2) Were lawfully present in the United States on the date of publication of this notice in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of the current crisis in Sudan.

An F-1 nonimmigrant student who does not meet all these requirements is ineligible for the suspension of the applicability of the standard regulatory requirements (even if experiencing severe economic hardship as a direct result of the current crisis in Sudan).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Sudan enrolled in kindergarten through grade 12 at a private school, or grades 9 through 12 at a public high school. Such students must maintain the minimum number of hours of class attendance per week prescribed by the academic institution for normal progress toward graduation, as required under 8CFR214.2(f)(6)(i)(E). The suspension of certain regulatory requirements related to employment through this notice is applicable to all eligible F-1 nonimmigrant students regardless of educational level. Eligible F-1 nonimmigrant students from Sudan enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].⁴⁶

⁴⁶ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of April 19, 2025, provided the student satisfies the minimum course load requirements in this notice.

To obtain on-campus employment authorization, the F-1 nonimmigrant student must demonstrate to the DSO that the employment is necessary to avoid severe economic hardship directly resulting from the current crisis in Sudan. An F-1 nonimmigrant student authorized by the DSO to engage in on-campus employment by means of this notice does not need to file any applications with U.S. Citizenship and Immigration Services (USCIS). The standard rules permitting full-time on-campus employment when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ⁴⁷ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.⁴⁸

⁴⁷ See 8 CFR 214.2(f)(6).

⁴⁸ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ⁴⁹ for the purpose of maintaining F-1 nonimmigrant student status for the duration of the student's employment authorization if the student satisfies the minimum course load requirement described in this notice, consistent with 8 CFR 214.2(f)(6)(i)(F). However, the authorization for a reduced course load is solely for DHS purposes of determining valid F-1 nonimmigrant student status. Nothing in this notice mandates that school officials allow an F-1 nonimmigrant student to take a reduced course load if such reduced course load would not meet the school's minimum course load requirement.⁵⁰

⁴⁹ See 8 CFR 214.2(f)(6).

⁵⁰ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current crisis in Sudan.⁵¹ Filing instructions are located at https://www.uscis.gov/i-765.

⁵¹ See 8 CFR 274a.12(c)(3)(iii).

Fee considerations. Submission of a Form I-765 currently requires payment of a $410 fee. An applicant who is unable to pay the fee may submit a completed Form I-912, Request for Fee Waiver, along with the Form I-765, Application for Employment Authorization. See https://www.uscis.gov/forms/filing-fees/additional-information-on-filing-a-fee-waiver.The submission must include an explanation about why USCIS should grant the fee waiver and the reason(s) for the inability to pay, and any evidence to support the reason(s). See 8 CFR 103.7(c) (Oct. 1, 2020).

Supporting documentation. An F-1 nonimmigrant student seeking off-campus employment authorization due to severe economic hardship must demonstrate the following to their DSO:

(1) This employment is necessary to avoid severe economic hardship; and

(2) The hardship is a direct result of the current crisis in Sudan.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].⁵²

⁵² Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of April 19, 2025, provided the student satisfies the minimum course load requirements in this notice.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ⁵³ at the time of the request for employment authorization;

⁵³ See 8 CFR 214.2(f)(6).

(b) The F-1 nonimmigrant student is a citizen of Sudan, regardless of country of birth (or an individual having no nationality who last habitually resided in Sudan), and is experiencing severe economic hardship as a direct result of the current crisis in Sudan, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁵⁴ and

⁵⁴ 8 CFR 214.2(f)(5)(v).

(d) The off-campus employment is necessary to alleviate severe economic hardship to the individual as a direct result of the current crisis in Sudan.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 103.7(c) (Oct. 1, 2020); and

(3) A signed and dated copy of the student's Form I-20 with the appropriate DSO recommendation, as previously described in this notice; and

(b) Send the application in an envelope which is clearly marked on the front of the envelope, bottom right-hand side, with the phrase “SPECIAL STUDENT RELIEF.” ⁵⁵ Failure to include this notation may result in significant processing delays.

⁵⁵ Guidance for direct filing addresses can be found here: https://www.uscis.gov/i-765-addresses.

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁵⁶ under this notice has two options.

⁵⁶ See DHS Study in the States, Special Student Relief, https://studyinthestates.dhs.gov/students/special-student-relief (last visited May 10, 2023).

Under the first option, the F-1 nonimmigrant student may apply for TPS according to the instructions in the USCIS notice designating Sudan for TPS elsewhere in this issue of the Federal Register. All TPS applicants must file a Form I-821, Application for Temporary Protected Status, with the appropriate fee (or request a fee waiver). Although not required to do so, if F-1 nonimmigrant students want to obtain a new TPS-related EAD that is valid through April 19, 2025, and to be eligible for automatic EAD extensions that may be available to certain EADs with an A-12 or C-19 category code, they must file Form I-765 and pay the Form I-765 fee (or request a fee waiver). After receiving the TPS-related EAD, an F-1 nonimmigrant student may request that their DSO make the required entry in SEVIS and issue an updated Form I-20, which notates that the nonimmigrant student has been authorized to carry a reduced course load, as described in this notice. As long as the F-1 nonimmigrant student maintains the minimum course load described in this notice, does not otherwise violate their nonimmigrant status, including as provided under 8 CFR 214.1(g), and maintains TPS, then the student maintains F-1 status and TPS concurrently.

Under the second option, the F-1 nonimmigrant student may apply for an EAD under Special Student Relief by filing Form I-765 with the location specified in the filing instructions. At the same time, the F-1 nonimmigrant student may file a separate TPS application, but must submit the Form I-821 according to the instructions provided in the Federal Register notice designating Sudan for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to the C-3 category under which Special Student Relief falls. The F-1 nonimmigrant student should check the appropriate box when filling out Form I-821 to indicate whether a TPS-related EAD is being requested. Again, as long as the F-1 nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁵⁷ unless or until the nonimmigrant student receives employment authorization under this notice. TPS-related employment authorization, by itself, does not authorize a nonimmigrant student to drop below twelve credit hours, or otherwise applicable minimum requirements (e.g., clock hours for non-traditional academic programs). Once approved for a TPS-related EAD and Special Student Relief employment authorization, as indicated by the DSO's required entry in SEVIS and issuance of an updated Form I-20, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁵⁷ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the current crisis in Sudan. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision may apply to students who worked on a TPS-related EAD or dropped their course load before publication of this notice, and therefore fell out of student status. These students must satisfy the criteria set forth in the F-1 nonimmigrant student status reinstatement regulations.

How long will this notice remain in effect?

This notice grants temporary relief until April 19, 2025,⁵⁸ to eligible F-1 nonimmigrant students. DHS will continue to monitor the situation in Sudan. Should the special provisions authorized by this notice need modification or extension, DHS will announce such changes in the Federal Register.

⁵⁸ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of April 19, 2025, provided the student satisfies the minimum course load requirements in this notice.

Paperwork Reduction Act (PRA)

An F-1 nonimmigrant student seeking off-campus employment authorization due to severe economic hardship resulting from the current crisis in Sudan must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765 under OMB Control Number 1615-0040. Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2023-17871 Filed 8-18-23; 8:45 am]

BILLING CODE 9111-28-P